COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and services to the Procurement List that will be furnished by nonprofit agencies employing persons who are blind or have other severe disabilities and deletes products and services from the Procurement List previously furnished by such agencies.

DATES: Effective Date: 7/19/2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 4/23/2010 (75 FR 21244-21246), the Committee for Purchase From People Who Are Blind or Severely Disabled published notice of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: MR 987—Towel, Super Absorbent, Orange, 20” x 23”, 3-Pack

NSN: MR 988—Towel, Super Absorbent, Kitchen Set, Assorted Colors, 15” x 15x”, 5-Pack

NPA: Industries for the Blind, Inc., West Allis, WI

Contracting Activity: Military Resale—Defense Commissary Agency, Fort Lee, VA

Coverage: C-List for the requirements of military commissaries and exchanges as aggregated by the Defense Commissary Agency.

NSN: 7930-00-NIB-0553—TriBase Multi-Purpose Cleaner, 2 liter, 4/BX

NSN: 7930-00-NIB-0554—TriBase Multi-Purpose Cleaner, 55 gallon drum, 1 DR

NSN: 7930-00-NIB-0555—BioRenewable Glass Cleaner, 2-liter, 4/BX

NSN: 7930-00-NIB-0556—BioRenewable Glass Cleaner, 55 gallon drum, 1 DR

NSN: 7930-00-NIB-0557—Neutral Disinfectant Cleaner, 2-liter, 4/BX

NSN: 7930-00-NIB-0558—Neutral Disinfectant Cleaner, 55 gallon drum, 1 DR

NSN: 7930-00-NIB-0559—BioRenewable Industrial Cleaner, 2 liter, 4/BX

NSN: 7930-00-NIB-0560—BioRenewable Industrial Cleaner, 55 gallon drum, 1 DR

NSN: 4510-00-NIB-0021—Dispensing unit, 4 station, stainless steel, 1 EA

NSN: 4510-00-NIB-0022—Dispensing unit, 3-station, stainless steel, 1 EA

NSN: 8125-00-NIB-0024—Tribase multi-purpose silk screened 8oz bottle, 12/BX

NSN: 8125-00-NIB-0025—Glass cleaner silk screened 8oz bottle, 12/BX

NSN: 8125-00-NIB-0026—Neutral Disinfectant silk screened 8oz bottle, 12/BX

NSN: 8125-00-NIB-0027—Industrial cleaner silk screened 8oz bottle, 12/BX

NSN: 8125-00-NIB-0030—Neutral Disinfectant silk screened 32oz bottle, 12/BX

NSN: 8125-00-NIB-0041—Spray Bottle, BioRenewables Restroom Cleaner, Silk Screened, 8oz, 12/BX

NSN: 8125-00-NIB-0042—Spray Bottle, BioRenewables Restroom Cleaner, Silk Screened, 32oz, 12/BX

NSN: 7930-00-NIB-0612—Cleaner, Restroom, BioRenewables, 55 GL Drum, 1 DR

NSN: 8125-00-NIB-0040—Industrial Cleaner Silk Screened 32oz Bottle, 12/BX

NPA: Susquehanna Association for the Blind and Visually Impaired, Lancaster, PA

Contracting Activity: FEDERAL PRISON SYSTEM, CENTRAL OFFICE, WASHINGTON, DC

Coverage: C-List for 100% of the requirements of the Federal Prison System, Central Office, Washington, DC.

Services

Service Type/Location: Document Destruction Service, Dallas Finance Center—Dept of Homeland Security (ICE), 1460 Prudential Drive, Dallas, TX.

NPA: Expanco, Inc., Fort Worth, TX.

Contracting Activity: DEPT OF HOMELAND SECURITY, BUREAU OF IMMIGRATION AND CUSTOMS ENFORCEMENT, MISSION SUPPORT—DALLAS OFFICE, DALLAS, TX.

Service Type/Location: Administrative Support Service, Natick Contracting Division (AMSSB-ACN-S), Natick, MA.

NPA: Work, Incorporated, North Quincy, MA.

Contracting Activity: DEPT OF THE ARMY, XR W2DF RDECOM ACQ CTR NATICK, NATICK, MA.

Service Type/Location: Car Wash Service, Customs and Border Protection/Indio Border Station, 83-801 Vin Deo Circle, Indio, CA.

NPA: Sheltering Wings Corp., Blythe, CA.

Contracting Activity: DEPT OF HOMELAND SECURITY, BUREAU OF CUSTOMS AND BORDER PROTECTION, OFFICE OF PROCUREMENT, WASHINGTON, DC.

Service Type/Locations: Janitorial Service, U.S. Border Patrol Station: Camp Grip, Devil's Highway, Yuma, AZ.

Janitorial and Grounds Maintenance Service, U.S. Border Patrol Station: Yuma Annex, 4030 S. Avenue A, Yuma, AZ.

NPA: the EXCEL group, Yuma, AZ.

Contracting Activity: DEPT OF HOMELAND SECURITY, BUREAU OF CUSTOMS AND BORDER PROTECTION, OFFICE OF PROCUREMENT, WASHINGTON, DC

Deletions

On 4/2/2010 (75 FR 16757); 4/9/2010 (75 FR 18164-18165); 4/16/2010 (75 FR 19945-19946); 4/23/2010 (75 FR 21244-21246); and 4/30/2010 (75 FR 22744-22745), the Committee for Purchase From People Who Are Blind or Severely Disabled published notices of proposed deletions from the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Scarf, Branch of Service

NSN: 8455-00-916-8398

NPA: Susquehanna Association for the Blind, Lancaster, PA; Blind Industries and Services of Maryland, Baltimore, MD.

Contracting Activity: DEFENSE LOGISTICS AGENCY, DEFENSE SUPPLY CENTER PHILADELPHIA, PHILADELPHIA, PA.

Solvent, Correction Fluid

NSN: 7510-01-333-6241

NPA: Lighthouse for the Blind, St. Louis, MO.

Contracting Activity: GSA/FSS OFC SUP CTR—PAPER PRODUCTS, NEW YORK, NY.

Case, Tent Repair Kit

NSN: 8340-00-270-1334

NPA: Work Services Corporation, Wichita Falls, TX.

Contracting Activity: DEFENSE LOGISTICS AGENCY, DEFENSE SUPPLY CENTER PHILADELPHIA, PHILADELPHIA, PA.

Executive/Personal Time Management System

NSN: 7510-01-545-3709—Calendar Pad, Type I, 2009

NSN: 7530-00-NSH-0095—JR Deluxe Time Management System-Black

NSN: 7530-01-537-7818L—DAYMAX System, JR Version, 2009, Black w/Logo

NSN: 7530-01-537-7819L—DAYMAX System, JR Version, 2009, Navy w/Logo

NSN: 7530-01-537-7821L—DAYMAX System, JR Version, 2009, Burgundy w/Logo

NSN: 7530-01-537-7822L—DAYMAX System, IE, 2009, Black w/Logo

NSN: 7530-01-537-7824L—DAYMAX System, IE, 2009, Navy w/Logo

NSN: 7530-01-537-7823L—DAYMAX System, IE, 2009, Burgundy w/Logo

NSN: 7530-01-537-7825L—DAYMAX System, LE, 2009, Black w/Logo

NSN: 7530-01-537-7826L—DAYMAX System, LE, 2009, Navy w/Logo

NSN: 7530-01-537-7827L—DAYMAX System, LE, 2009, Burgundy w/Logo

NSN: 7530-01-537-7805L—DAYMAX System, GLE, 2009, Black w/Logo

NSN: 7530-01-537-7803L—DAYMAX System, GLE, 2009, Navy w/Logo

NSN: 7530-01-537-7804L—DAYMAX System, GLE, 2009, Burgundy w/Logo

NSN: 7530-01-537-7804—DAYMAX System, GLE, 2009, Burgundy

NSN: 7530-01-537-7803—DAYMAX System, GLE, 2009, Navy

NSN: 7530-01-537-7802—DAYMAX System, DOD Planner, 2009

NSN: 7530-01-537-7806—DAYMAX System, Camouflage Planner, 2009

NSN: 7510-01-537-7808—DAYMAX, IE/LE Month at a View, 2009, 3-hole

NSN: 7510-01-537-7807—DAYMAX, IE/LE Week at a View, 2009, 3-hole

NSN: 7510-01-537-7809—DAYMAX, IE/LE Day at a View, 2009, 3-hole

NSN: 7510-01-537-7815—DAYMAX, GLE Week at a View, 2009, 7-hole

NSN: 7510-01-537-7810—DAYMAX, GLE Day at a View, 2009, 7-hole

NSN: 7510-01-537-7812—DAYMAX, Tabbed Monthly, 2009, 3-hole

NSN: 7510-01-537-7814—DAYMAX, Tabbed Monthly, 2009, 7-hole

NSN: 7530-01-537-7805—DAYMAX System, GLE, 2009, Black

NSN: 7530-01-537-7827—DAYMAX System, LE, 2009, Burgundy

NSN: 7530-01-537-7826—DAYMAX System, LE, 2009, Navy

NSN: 7530-01-537-7825—DAYMAX System, LE, 2009, Black

NSN: 7530-01-537-7823—DAYMAX System, IE, 2009, Burgundy

NSN: 7530-01-537-7824—DAYMAX System, IE, 2009, Navy

NSN: 7530-01-537-7822—DAYMAX System, IE, 2009, Black

NSN: 7530-01-537-7821—DAYMAX System, JR Version, 2009, Burgundy

NSN: 7530-01-537-7819—DAYMAX System, JR Version, 2009, Navy

NSN: 7510-01-545-3773—Calendar Pad, Type II, 2009

NSN: 7530-01-545-3738—Appointment Book Refill, 2009

NSN: 7530-01-537-7802L—DAYMAX System, DOD Planner w/Logo, 2009

NSN: 7530-01-537-7806L—DAYMAX System, Camouflage Planner w/Logo, 2009

NSN: 7530-01-537-7801L—DAYMAX System, Desert, Camouflage Planner w/Logo,

NSN: 7530-01-537-7801—DAYMAX System, Desert, Camouflage Planner, 2009

NSN: 7510-01-537-7813—DAYMAX, GLE Month at a View, 2009, 7-hole

NSN: 7530-01-537-7818—DAYMAX System, JR Version, 2009, Black

NPA: The Easter Seal Society of Western Pennsylvania, Pittsburgh, PA.

Contracting Activity: GSA/FSS OFC SUP CTR—PAPER PRODUCTS, NEW YORK, NY.

Services

Service Type/Location: Food Service Attendant Service, Whiting Field Naval Air Station, Milton, FL.

NPA: Lakeview Center, Inc.

Contracting Activity: DEPT OF THE NAVY, U.S. FLEET FORCES COMMAND, NORFOLK, VA.

Service Type/Location: Document Image Conversion Service, U.S. Department of Housing & Urban Development, Richard B. Russell Federal Building, Atlanta, GA.

NPA: Tommy Nobis Enterprises, Inc., Marietta, GA.

Contracting Activity: DEPARTMENT OF HOUSING AND URBAN DEVELOPMENT, OFFICE OF PROCUREMENT & CONTRACTS, WASHINGTON, DC.

Service Type/Location: Grounds Maintenance Service, Lexington Blue Grass Army Depot: Blue Grass Activity, Richmond, KY, Lexington Activity, Avon, KY.

NPA: Opportunity Workshop of Lexington, Inc.

Contracting Activity: DEPT OF THE ARMY, XR W40M NATL REGION CONTRACT OFC, WASHINGTON, DC.

Service Type/Location: Catering Service, San Antonio Detention Center, 8940 Fourwinds Dr., San Antonio, TX.

NPA: Goodwill Industries of San Antonio, San Antonio, TX.

Contracting Activity: DEPT OF HOMELAND SECURITY, BUREAU OF IMMIGRATION AND CUSTOMS ENFORCEMENT, DETENTION MANAGEMENT—DC OFFICE, WASHINGTON, DC.

Service Type/Location: Janitorial/Custodial Service, TSA Office Space: Newport News International Airport, 900A Bland Boulevard, Newport News, VA.

NPA: Portco, Inc., Portsmouth, VA.

Contracting Activity: GSA/PBS/R03 RICHMOND FO, RICHMOND, VA.

Services/Location: Grounds Maintenance Service, Janitorial/Custodial Service, U.S. Army Reserve Center, 4300 S. Treadway, Abilene, TX.

NPA: Abilene Goodwill Industries, Inc., Abilene, TX.

Contracting Activity: DEPT OF THE ARMY, XR W6BB ACA PRESIDIO OF MONTEREY, PRESIDIO OF MONTEREY, CA.

Barry S. Lineback,
Director, Business Operations.

[FR Doc. 2010-14807 Filed 6-17-10; 8:45 am]

BILLING CODE 6353-01-P